DEPARTMENT OF THE INTERIOR

Bureau of Land Management

[LLUT920000-L13100000-FI0000-25-7A]

Notice of Proposed Class II Reinstatement of Oil and Gas Lease, Utah, UTU-79113

AGENCY: Bureau of Land Management, Interior.

ACTION: Notice of Proposed Reinstatement of Oil and Gas Lease.

SUMMARY: In accordance with Title IV of the Federal Oil and Gas Royalty Management Act, Marion Energy Inc. timely filed a petition for reinstatement of oil and gas lease UTU-79113, for lands in Carbon County, Utah. The petition was accompanied by all required rentals and royalties accruing from September 1, 2009, the date of termination.

FOR FURTHER INFORMATION CONTACT: Roger L. Bankert, Chief, Branch of Minerals, Utah State Office, Bureau of Land Management, 440 West 200 South, Salt Lake City, Utah, 84145; phone (801) 539-4037.

SUPPLEMENTARY INFORMATION: The lessee has agreed to new lease terms for rentals and royalties at rates of $5 per acre and 16-2/3 percent, respectively. The $500 administrative fee for the lease has been paid and the lessee has reimbursed the Bureau of Land Management (BLM) for the cost of publishing this notice.

Having met all the requirements for reinstatement of the lease, as set out in Section 31 (d) and (e) of the Mineral Leasing Act of 1920 (30 U.S.C. 188), the BLM is proposing to reinstate the lease, effective September 1, 2009, subject to the original terms and conditions of the lease and the increased rental and royalty rates cited above.

Jeff Rawson,
Associate State Director.

[FR Doc. 2010-8779 Filed 4-15-10; 8:45 am]

BILLING CODE 4310-DQ-P